DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with April anniversary dates. In accordance with Commerce's regulations, we are initiating those administrative reviews.

DATES: Applicable June 11, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with April anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 35 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 35 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than April 30, 2022.

| Period to be reviewed
AD Proceedings
ARGENTINA: Biodiesel, A-357-820 | 4/1/20-3/31/21
Aceitera General Deheza S.A.
Bio Nogoya S.A.
Bunge Argentina S.A.
Cargill S.A.C.I.
COFCO Argentina S.A.
Cámara Argentina de Biocombustibles
Explora
GEFCO Argentina
LDC Argentina S.A.
Molinos Agro S.A.
Noble Argentina
Oleaginosa Moreno Hermanos S.A.
Patagonia Bioenergia
Renova S.A.
T6 Industrial SA (EcoFuel)
Unitec Bio S.A.
Vicentin S.A.I.C.
Viluco S.A.
INDIA: Carbon and Alloy Steel Threaded Rod, A-533-887 | 9/25/19-3/31/21
A H Enterprises
A S International
Aadi Shree Fastener Industries
Aanjaney Micro Engy Pvt., Ltd.
Aaran 1 Engineering Pvt., Ltd.
Aask Precision Engineers
Abhi Metals
Accumax Lab Devices Pvt., Ltd.
Acmi Industries
Adhi Automation (India) Pvt., Ltd.
Adma Auto Components Pvt., Ltd.
Adma Fabrications (P) Ltd.
Aesthetic Living Merchants Pvt., Ltd.
Agarwal Fastners Pvt., Ltd.
Ajay Electric And Metal Industries
Akg India Private Ltd.
Ambana Exp.
Amtek Auto Ltd.
Ap Trading
Apa Engineering Pvt., Ltd.
Arcotherm Pvt., Ltd.
Arohi International
Aruna Alloy Steels Pvt., Ltd.
Ashish International
Asma International
Asp Pvt., Ltd.
August Industries
Aura Industries Equipement & Project Pvt. Ltd.
Avtar Exp.
Babu Exp.
Bajaj Auto Ltd.
Balmer Lawrie & Co., Ltd.
Bansal Wire Industries Ltd.
Bee Dee Cycle Industries
Belgaum Ferrocast India Pvt., Ltd.
Beri Udyog Pvt., Ltd.
Best Quality Fastners
Bhansali Inc.
Bhuj Polymers Pvt., Ltd.
C Tech Engineers Pvt. Ltd.
Caliber Enterprises
Canco Fasteners
Caparo Engineering India Pvt., Ltd.
Capital Bolts And Hardwares
Case New Holland Construction Equipment(I) Pvt. Ltd.
Century Distribution System Inc.
Challenger Sweepers Private Ltd.
Chandra Mats Pvt., Ltd.
Charu Enterprises
Chhabra Forgings
Chirag International
Clasquin India Pvt., Ltd.
Cnh Industries (India) Pvt., Ltd.
Collection Exp.
Concept Fasteners
Conex Metals
Continental Hardware Mart
Cosmo International
Cummins India Ltd.
Cummins India Ltd. Pdc Mfg Unit
Damco India Pvt., Ltd.
Danesh Industries
Danta Exim
Dauji Engineering Ltd.
Dcw Ltd.
Deepak Brass Industries
Deepak Fasteners Ltd.
Deneb
Dhara Foods Pvt., Ltd.
Dmw Cnc Solutions India Pvt., Ltd.
Dst Industries
Durable Metalcraft
Eagle Line Fixings&Fixtures(P) Ltd.
Eastman Industries Ltd.
Echjay Forgings Pvt. L
Edicon Pneumatic Tool Co. Pvt. Ltd.
Efficient Automotives Pvt., Ltd.
Eicher Motors Ltd.
Elite Green Pvt., Ltd.
Ellias International
Emmforce Inc.
Emu Lines Pvt., Ltd.
Ess Enn Auto Cnc .P. Ltd.
Everest Engineering Equipment Pvt., Ltd.
Everest Industries Ltd.
Fence Fixings
Fine Products (India)
Fine Thread Form Industries
Fit Right Nuts And Bolts Pvt., Ltd.
Flowserve India Controls Pvt., Ltd.
Ford India Pvt., Ltd.
Ganesh Brass Industries
Ganga Technocast
Ganges Internationale
Ganpati Fastners Pvt., Ltd.
Gayatri Metal Products
Ghanshyamlal Co.
Global Engineering Exports
Gloster Jute Mills Limited
Goel & Goel International
Good Ways Corporation
Goodgood Manufacturers
GPDA Fasteners
Gripwel Fasteners
Gvn Fuels Ltd.
Hamidi Exp.
Haria Trading Co.
Him Overseas
Hind Metal & Industries Pvt., Ltd.
Hindostan Expo
Hiten Fastners Pvt., Ltd.
Hobb International Pvt., Ltd.
Humboldt Wedag India P Ltd.
Husco Hydraulics Pvt., Ltd.
Idea Fastners Pvt., Ltd.
Imco Alloys Pvt., Ltd.
Inder Industries
India Yamaha Motor Pvt., Ltd.
Teyamaha Motor Asia Pte., Ltd.
Indo Schottle Auto Parts Pvt., Ltd.
Indra Engineering
Induspro Auto Engineers Pvt., Ltd.
Industrias Gol S.A.U.
Ingersoll Rand India Ltd.
Intex Home Solutions
Intl Tractors Ltd.
Irm Offshore & Marine Engineer Pvt., Ltd.
Ispt India Pvt., Ltd.
J.K. Fenner (India) Ltd.
Jain Grani Marmo Pvt., Ltd.
Jayson International
Jhv Engicon Pvt., Ltd.
Jindal Fasteners
K V Tech India LLP
Kalpana Brass Industries
Kanika Exp.
Kanika Overseas Inc.
Kapil Enterprises
Kapson India
Kapurthala Industrial Corporation
Karamtara Engineering Pvt., Ltd.
Karna International
KBV Industries India Pvt., Ltd.
KEC International Ltd.
Keith Ceramic India Private Ltd.
Kewaunee Labway India Pvt., Ltd.
King Exports
Kmp Freight
Knk Enterprises
Knl Drive Line Parts Pvt., Ltd.
Kohler India Corp.Pvt Ltd.
Krisam Automation Pvt., Ltd.
KSP Engineering Co.
Kumar Auto Parts Pvt., Ltd.
Kundan Industries Ltd.
Lasercut Metal Technology Private Ltd.
LCL Logistix (I) Pvt., Ltd.
Lg Balakrishnan & Bros Ltd.
Live Rock Bangalore Pvt., Ltd.
M K Fastners
M.D. Industries
M.K.Fasteners
M.M. Intl
Mack Machine Products Pvt., Ltd.
Maharaja International
Maini Precision Products Ltd.
Mangal Steel Enterprises Limited
Mangalam Alloys Ltd.
Mansons International Pvt., Ltd.
Mark Industries
Marudhar Enterprises
Maxop Engineering Co.
Maya Enterprises
MB Metallic Bellows Pvt., Ltd.
Mechasoft
Meeras International
Mega Engineers
Metaloft Industries Private Ltd.
Metrix Autocomp Pvt., Ltd.
Mohindra Fasteners Ltd.
Movex Cargo Pvt., Ltd.
MSS India Pvt., Ltd. (100%Eou)
Mukund Overseas
Multimech Engineers
Multitech Products Pvt., Ltd.
N. A. Roto Machines & Moulds India
Navketan Engineering Works
Neon Alloys
Nexo Industries Ltd.
Nipha Enterprises LLP
Niranjan Engineering Works
Nishant Steel Industries
Nivic Technocast
Norquest Brands Private Ltd.
Northpole Industries
Ommi Forge Pvt., Ltd.
Omnitech Engineering
Onkar International
Oriental Exp. Corporation
Oriental Rubber Industries
P N International
P R Rolling Mills Pvt., Ltd.
Paani Precision Products Llp
Paloma Turning Co. Pvt., Ltd.
Panesar Engineers
Pankaj Exp.
Paramount Agriparts
Parshva India
Parul Exp.
Perfect Forgings
Perfect Industries (India)
Pheon Auto Tech Pvt., Ltd.
Piping & Energy Products (P) Ltd
Pooja Forge Ltd.
Pooja Precision Screws Pvt., Ltd.
Pr Professional Services
Precision Engineering Industries
Precision Products Marketing Pvt., Ltd.
Prime Steel Products
Protech International
Psl Pipe & Fittings Co.
R F India
R K Fasteners (India)
R. Kay Exp.
Raajratna Metal Industries Ltd.
Raajratna Ventures Ltd.
Rachna Fastners
Randack Fasteners India Pvt., Ltd.
Rar Exim Pvt., Ltd.
Ravi Engineers
Rbm International
Resilent Autocomp Pvt., Ltd.
Ridvan Fasteners India Pvt., Ltd.
Right Tight Fastners Pvt., Ltd.
Rishi International
Rohlig India Pvt., Ltd.
Roots Multiclean Ltd.
Rotzler Services Private Ltd.
S K Brass Works
Sakthi Forgings
Sameer Exports International
Sandip Brass Industries
Sanghvi Metal Coporation
Sarveshwari Engineers
Satyam Engineering Works
Schenker India Pvt., Ltd.
Scorpio Precisions
Shalaka Shafts Private Ltd.
Shiv Om Brass Industries
Shree Exp.
Shree Luxmi Fasteners
Shree Raj Industries
Shreeraj Industries
Shri L.G. Hindustan Handicrafts
Shri Ram Castings
Shri Shirdi Sai Baba Moorti Art
Shrijee Process Engineering
Shrutee Exp. Pvt., Ltd.
Shyam Enterprises
Sigmaflow Production Solutions Priv
Simplex Engineering Co.
Singhania International
Sivaramakrishna Forgings P. Ltd.
Skf India Ltd.
Sks Fasteners Ltd.
Sonesta Corporation
Sri Ranganathar Industries Private Limited
Stelco Ltd.
Sterling Tools Ltd.
Strut Support Systems
Sundram Fasteners Ltd.
Sunil Chirag & Co.
Sunil Industries, Ltd.
Supreme Overseas Exports India Pvt. Ltd.
Surelock Plastics Pvt., Ltd.
Suzlon Energy Ltd.
Suzy Indusries Ltd.
Sv Engineerings
Swadesh Enginering Industries
Swamiji Transmission Pvt., Ltd.
Swati Enterprise
Techbolt Industries Private Ltd.
Technical Products
Technocraft Industries (India) Ltd.
Tega Industries Ltd.
Teryair Equipment Pvt., Ltd.
Texas Technology
Tijiya Engineering Pvt., Ltd.
Tijiya Exp. Pvt., Ltd.
Torqbolt Inc.
Total Transport Systems Pvt., Ltd.
Trans Tool Pvt., Ltd.
Tristar International
Triton Foodworks Pvt., Ltd.
Trueform Exp. Pvt.L
Turbo Tools Pvt., Ltd.
Umaa Engineers
Unexo Life Sciences Private Ltd.
Universal Precision Screws
Unlimited Inc.
UT Worldwide (India) Pvt., Ltd.
V.K Fasteners Pvt., Ltd.
V.R.Logistics Pvt., Ltd.
V.S.Industries
Vatsalya Metal Industries
Vega Industries
Velvin Paper Products
Venu Engineering Services (P) Ltd.
Versatile Instruments & Controls
Vestas Wind Technology India Private Ltd.
Vibracoustic Noida Pvt., Ltd.
Victaulic Piping Products India Pvt., Ltd.
Vidhi Industries
Vidushi Wires Pvt., Ltd.
Vijay Engineering Works
Viraj Profiles Ltd.
Vollan Shipping Pvt., Ltd.
Vph International
Waveerk Enterprises
White Mountain Fixings India
Wintage Engineers & Consultants
Wire Rings
Xcel Exports
Yerik International
Yogendra International
Youyun Logistics & Technology Pvt. Ltd.
Zenith Precision Pvt., Ltd.
INDONESIA: Biodiesel, A-560-830 | 4/1/20-3/31/21
PT Cermerlang Energi Perkasa (CEP)
PT Ciliandra Perkasa
PT Musim Mas, Medan
PT Pelita Agung Agrindustri
Wilmar International Ltd.
THAILAND: Certain Frozen Warmwater Shrimp,⁵ A-549-822 | 2/1/20-1/31/21
THE PEOPLE'S REPUBLIC OF CHINA: 1,1,1,2-Tetrafluoroethane (R-134a), A-570-044 | 4/1/20-3/31/21
Puremann, Inc.
THE PEOPLE'S REPUBLIC OF CHINA: Aluminum Extrusions,⁶ A-570-967 | 5/1/19-4/30/20
Kingtom Aluminio S.R.L.
THE PEOPLE'S REPUBLIC OF CHINA: Alloy and Certain Carbon Steel Threaded Rod, A-570-104 | 9/25/19-3/31/21
Ningbo Dingtuo Imp. & Exp. Co., Ltd.
Ningbo Dongxin High-Strength Nut Co., Ltd.
Ningbo Jinding Fastening Piece Co., Ltd.
Ningbo Zhongjiang High Strength Bolts Co., Ltd.
Zhejiang Junyue Standard Part Co., Ltd.
THE PEOPLE'S REPUBLIC OF CHINA: Certain Activated Carbon, A-570-904 | 4/1/20-3/31/21
Beijing Pacific Activated Carbon Products Co., Ltd.
Carbon Activated Tianjin Co., Ltd.
Datong Juqiang Activated Carbon Co., Ltd.
Datong Municipal Yunguang Activated Carbon Co., Ltd.
Jacobi Carbons AB/Tianjin Jacobi International Trade Co., Ltd./Jacobi Carbons Industry (Tianjin) Co., Ltd.⁷
Jilin Bright Future Chemicals Co.
Meadwestvaco Trading (Shanghai)
Ningxia Guanghua Cherishmet Activated Carbon Co., Ltd.
Ningxia Huahui Activated Carbon Co., Ltd.
Ningxia Mineral & Chemical Limited
Ningxia Mineral & Chemical Ltd.
Shanxi Dapu International Trade Co., Ltd.
Shanxi DMD Corp.
Shanxi Industry Technology Trading Co., Ltd.
Shanxi Sincere Industrial Co., Ltd.
Shanxi Tianxi Purification Filter Co., Ltd.
Sinoacarbon International Trading Co., Ltd.
Tancarb Activated Carbon Co., Ltd.
Tianjin Channel Filters Co., Ltd.
Tianjin Maijin Industries Co., Ltd.
THE PEOPLE'S REPUBLIC OF CHINA: Certain Aluminum Foil, A-570-053 | 4/1/20-3/31/21
Anhui Maximum Aluminium Industries Company Ltd.
Alcha International Holdings Limited.
Dingsheng Aluminum Industries (Hong Kong) Trading Co., Ltd.
Gränges Aluminum (Shanghai) Co., Ltd.
Hangzhou Dingsheng Import & Export Co. Ltd.
Hangzhou Five Star Aluminum Co., Ltd.
Hunan Suntown Marketing Limited
Jiangsu Alcha Aluminium Co., Ltd.
Jiangsu Huafeng Aluminum Industry Co., Ltd.
Jiangsu Zhongji Lamination Materials Co., Ltd. (f/k/a/Jiangsu Zhongji Lamination Materials Stock Co., Ltd.)
Jiangsu Zhongji Lamination Materials Co., (HK) Limited
Shanghai Huafon Aluminium Corporation (formerly Huafon Nikkei Aluminum Corporation)
SNTO International Trade Limited
Suntown Technology Group Corporation Limited
Xiamen Xiashun Aluminium Foil Co., Ltd.
Yinbang Clad Material Co., Ltd.
THE PEOPLE'S REPUBLIC OF CHINA: Drawn Stainless Steel Sinks, A-570-983 | 4/1/20-3/31/21
B&R Industries Limited
Feidong Import and Export Co., Ltd.
Foshan Shunde MingHao Kitchen Utensils Co., Ltd.
Foshan Zhaoshun Trade Co., Ltd.
Franke Asia Sourcing Ltd.
Grand Hill Work Company
Guangdong Dongyuan Kitchenware Industrial Co., Ltd.
Guangdong G-Top Import & Export Co., Ltd.
Guangdong New Shichu Import & Export Company Limited
Guangdong Yingao Kitchen Utensils Co., Ltd.
Hangzhou Heng's Industries Co., Ltd.
Hubei Foshan Success Imp & Exp Co., Ltd.
J&C Industries Enterprise Limited
Jiangmen Hongmao Trading Co., Ltd.
Jiangmen New Star Hi-Tech Enterprise Ltd.
Jiangmen Pioneer Import & Export Co., Ltd.
Jiangxi Zoje Kitchen & Bath Industry Co., Ltd.
KaiPing Dawn Plumbing Products, Inc.
Ningbo Afa Kitchen and Bath Co., Ltd./Yuyao Afa Kitchenware Co., Ltd.
Ningbo Oulin Kitchen Utensils Co., Ltd.
Primy Cooperation Limited
Shenzhen Kehuaxing Industrial Ltd.
Shunde Foodstuffs Import & Export Company Limited of Guangdong
Shunde Native Produce Import and Export Co., Ltd. of Guangdong
Xinhe Stainless Steel Products Co., Ltd.
Zhongshan Newecan Enterprise Development Corporation
Zhongshan Silk Imp. & Exp. Group Co., Ltd. of Guangdong
Zhongshan Superte Kitchenware Co., Ltd.
Zhuhai Kohler Kitchen & Bathroom Products Co., Ltd.
THE PEOPLE'S REPUBLIC OF CHINA: Magnesium Metal, A-570-896 | 4/1/20-3/31/21
Tianjin Magnesium International Co., Ltd.
Tianjin Magnesium Metal Co., Ltd.
THE PEOPLE'S REPUBLIC OF CHINA: Stainless Steel Sheet and Strip, A-570-042 | 4/1/20-3/31/21
Ahonest Changjiang Stainless Co., Ltd.
Angang Guangzhou Stainless Steel Corporation
Angang Hanyang Stainless Steel Corp.
Anping Yuanjing Metal Products Co., Ltd.
Apex Industries Corporation
Baofeng Xianlong Stainless Steel (Baofeng Steel Group Co.)
Baojing Steel Ltd.
Baosteel Desheng Stainless Steel Co., Ltd.
Baosteel Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Foshan)
Chain Chon Metal (Kunshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (Jinhui Group)
Henan Xuyuan Stainless Steel Co., Ltd
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd
Jinyun Xintongmao
Jiuquan Iron & Steel (JISCO)
Kuehne & Nagel, Ltd. (Ningbo)
La Qin (Hong Kong) Co., Ltd.
Lianzhong Stainless Steel Corp. (LISCO)
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd. No.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao Rising Sun International Trading Co,. Ltd.
Qingdao-Pohang Stainless Steel (QPSS)
Qingdao Sincerely Steel
Rihong Stainless Co., Ltd.
Ruitian Steel
Samsung Precision Stainless Steel (Pinghu) Co., Ltd.
Sejung Sea & Air Co., Ltd.
Shainghai Fengye Industry Co., Ltd.
Shandong Huaye Stainless Steel Group Co., Ltd.
Shandong Mengyin Huaran Imp and Exp Co., Ltd.
Shandong Mingwei Stainless Steel Products Co., Ltd.
Shanghai Dongjing Import & Export Co.
Shanghai Ganglian E-Commerce Holdings Co., Ltd.
Shanghai Krupp Stainless (SKS)
Shanghai Metal Corporation
Shanghai Tankli Alloy Material Co., Ltd.
Shanxi Taigang Stainless Steel Co., Ltd. (TISCO)
Shaoxing Andrew Metal Manufactured Co., Ltd.
Shaoxing Yuzhihang Import & Export Trade Co., Ltd.
Shenzhen Brilliant Sign Co., Ltd.
Shenzhen Wide International Trade Co., Ltd.
Sichuan Southwest Stainless Steel
Sichuan Tianhong Stainless Steel
Sino Base Metal Co., Ltd.
Suzhou Xinchen Precision Industrial Materials Co., Ltd.
Taiyuan Accu Point Technology, Co. Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co. Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
Tiashan Steel
TISCO Stainless Steel (HK) Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Yieh Corp. Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhejiang Yongyin Metal Tech Co.
Zhengzhou Mingtai Industry Co., Ltd.
Zhenjiang Huaxin Import & Export
Zhenshi Group Eastern Special Steel Co., Ltd
Zun Hua City Transcend Ti-Gold
THE PEOPLE'S REPUBLIC OF CHINA: Wooden Cabinets and Vanities and Components Thereof, A-570-106 | 10/9/19-3/31/21
Anhui Swanch Cabinetry Co., Ltd.
Anhui Xinyuanda Cupboard Co., Ltd.
Dalian Hualing Wood Co., Ltd.
Dalian Jiaye Wood Products Co., Ltd.
Dalian Meisen Woodworking Co. Ltd.
Dandong Laroyal Cabinetry Co., Ltd.
Deqing Meisheng Import and Export Co., Ltd.
Foremost Worldwide Co. Ltd.
Fujian Dushi Wooden Industry Co., Ltd.
Fujian Senyi Kitchen Cabinet Co., Ltd
Fuzhou CBM Import & Export Co., Ltd.
Fuzhou Minlian Wood Industry Co., Ltd.
Fuzhou Pyrashine Trading Co., Ltd.
Guangzhou Nuolande Import and Export Co., Ltd.
Hangzhou Entop Houseware Co., Ltd.
Hangzhou Hoco Kitchen & Bath Products Co., Ltd.
Hangzhou Home Dee Sanitary Ware Co., Ltd.
Hangzhou Royo Import & Export Co., Ltd.
Heyond Cabinet Co., Ltd.
Honsoar New Building Material Co., Ltd
HS Furniture Industrial Co., Ltd.
Jiang Su Rongxin Import and Export Co., Ltd.
Jiang Su Rongxin Wood Industry Co. Ltd
Jiang Su Rongxin Cabinets Ltd
Jiangsu Beichen Wood Co., Ltd.
Jiangsu Sunwell Cabinetry Co., Ltd.
Jiangsu Weisen Houseware Co., Ltd
Jiangsu Xiangsheng Bedtime Furniture Co., Ltd.
KM Cabinetry Co., Limited
Km Cabinetry Co., Ltd.
Kunshan Baiyulan Furniture Co., Ltd.
Linshu Meibang Furniture Co., Ltd.
Linyi Bomei Furniture Co., Ltd.
Linyi Bonn Flooring Manufacture Co., Ltd.
Linyi Kaipu Furniture Co., Ltd.
Morewood Cabinetry Co., Ltd.
Nantong Aershin Cabinets Co., Ltd.
Pizhou Ouyme Import & Export Trade Co., Ltd.
Qingdao Shousheng Industry Co., Ltd
Qufu Xinyu Furniture Co., Ltd.
Rizhao Foremost Woodwork Manufacturing Company Ltd.
Senke Manufacturing Company
Shandong Huanmei Wood Co., Ltd
Shandong Longsen Woods Co., Ltd.
Shanghai Beautystar Cabinetry Co., Ltd.
Shanghai Zifeng Industries Development Co., Ltd.
Shanghai Zifeng International Trading Co., Ltd
Sheen Lead International Trading (Shanghai) Co., Ltd.
Shenzhen Pengchengzhirong Trade Co., Ltd.
Shouguang Fushi Wood Co., Ltd
Shouguang Jinxiangyuan Home Furnishing Co., Ltd
Shouguang Sanyang Wood Industry Co., Ltd
Suzhou Siemo Wood Import & Export Co., Ltd.
Taishan Oversea Trading Co., Ltd.
Tech Forest Cabinetry Co., Ltd
The Ancientree Cabinet Co., Ltd.
Weifang Fuxing Wood Co., Ltd.
Weihai Jarlin Cabinetry Manufacture Co., Ltd.
Xiamen Adler Cabinetry Co., Ltd.
Xiamen Goldenhome Co., Ltd
Xuzhou Yihe Wood Co., Ltd.
Yichun Dongmeng Wood Co., Ltd
Yixing Pengjia Cabinetry Co., Ltd.
ZBOM Cabinets Co., Ltd.
Zhangzhou OCA Furniture Co., Ltd.
Zhongshan KM Cabinetry Co., Ltd
Zhoushan For-strong Wood Co., Ltd.
CVD Proceedings
INDIA: Carbon and Alloy Steel Threaded Rod, C-533-888 | 7/29/19 -12/31/20
Mangal Steel Enterprises Limited
THE PEOPLE'S REPUBLIC OF CHINA: Aluminum Extrusions,⁸ C-570-968 | 1/1/19-12/31/19
Kingtom Aluminio S.R.L.
THE PEOPLE'S REPUBLIC OF CHINA: Carbon and Alloy Steel Threaded Rod, C-570-105 | 7/29/19-12/31/20
Cooper & Turner (Ningbo) International Trading Co., Ltd.
EC International (Nantong) Co., Ltd.
Haiyan Qinshan Rubber Factory
IFI & Morgan Ltd.
Jiaxing Genteel Import & Export Co., Ltd
Nantong Runyou Metal Products Co., Ltd.
Ningbo Dingtuo Imp. & Exp. Co., Ltd.
Ningbo Dongxin High-Strength Nut Co., Ltd.
Ningbo Jinding Fastening Piece Co., Ltd.
Ningbo Qunli Fastener Manufacture Co., Ltd.
Ningbo Shareway Import & Export, Co., Ltd.
Ningbo Xingsheng Oil Pipe Fittings Manufacture Co., Ltd.
Ningbo Zhenghai Yongding Fastener Co., Ltd.
Ningbo Zhenghai Yongding Fasteners Manufacture Co., Ltd.
Ningbo Zhenhai Zhongbiao Standard Parts Factory
Ningbo Zhongjiang High Strength Bolts Co., Ltd.
RMB Fasteners Ltd.
Zhejiang Cooper & Turner Fasteners Co., Ltd.
Zhejiang Golden Automotive Fastener Co., Ltd
Zhejiang Heiter Mfg & Trade Co., Ltd.
Zhejiang Huiyou Import & Export Co., Ltd.
Zhejiang Junyue Standard Part Co., Ltd.
Zhejiang Morgan Brother Technology Co., Ltd.
THE PEOPLE'S REPUBLIC OF CHINA: Certain Aluminum Foil, C-570-054 | 1/1/20-12/31/20
Alcha International Holdings Limited
Anhui Maximum Aluminium Industries Company Ltd.
Baotou Alcha Aluminum Co., Ltd.
Dingsheng Aluminum Industries (Hong Kong) Trading Co., Ltd.
Gränges Aluminum (Shanghai) Co., Ltd.
Guangxi Baise Xinghe Aluminum Industry Co., Ltd.
Hangzhou DingCheng Aluminium Co., Ltd.
Hangzhou Dingsheng Import & Export Co. Ltd.
Hangzhou Dingsheng Industrial Group Co. Ltd.
Hangzhou Five Star Aluminum Co., Ltd.
Hangzhou Teemful Aluminum Co., Ltd.
Hunan Suntown Marketing Limited
Jiangsu Alcha Aluminium Co., Ltd.
Jiangsu Dingsheng New Materials Joint-Stock Co., Ltd.
Jiangsu Huafeng Aluminum Industry Co., Ltd.
Jiangsu Zhongji Lamination Materials Co., (HK) Limited
Jiangsu Zhongji Lamination Materials Co., Ltd. (f/k/a/Jiangsu Zhongji Lamination Materials Stock Co., Ltd.)
Jiangyin Dolphin Pack Ltd. Co.
Luoyang Longding Aluminum Industries Co., Ltd.
Shandong Yuanrui Metal Material Co., Ltd.
Shanghai Huafon Aluminium Corporation (formerly Huafon Nikkei Aluminum Corporation)
Shantou Wanshun Package Material Stock Co., Ltd.
SNTO International Trade Limited
Suntown Technology Group Corporation Limited
Walson (HK) Trading Co., Limited
Xiamen Xiashun Aluminium Foil Co. Ltd.
Yantai Donghai Aluminum Co., Ltd.
Yangtai Jintai International Trade. Co., Ltd.
Yinbang Clad Material Co., Ltd
Zhejiang Zhongjin Aluminum Industry Co., Ltd.
THE PEOPLE'S REPUBLIC OF CHINA: Stainless Steel Sheet and Strip, C-570-043 | 1/1/20-12/31/20
Ahonest Changjiang Stainless Co., Ltd.
Angang Guangzhou Stainless Steel Corporation
Angang Hanyang Stainless Steel Corp.
Anping Yuanjing Metal Products Co., Ltd.
Apex Industries Corporation
Baofeng Xianlong Stainless Steel (Baofeng Steel Group Co.)
Baojing Steel Ltd.
Baosteel Desheng Stainless Steel Co., Ltd.
Baosteel Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Foshan)
Chain Chon Metal (Kunshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (Jinhui Group)
Henan Xuyuan Stainless Steel Co., Ltd
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd
Jinyun Xintongmao
Jiuquan Iron & Steel (JISCO)
Kuehne & Nagel, Ltd. (Ningbo)
La Qin (Hong Kong) Co., Ltd.
Lianzhong Stainless Steel Corp. (LISCO)
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd. No.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao Rising Sun International Trading Co,.Ltd.
Qingdao-Pohang Stainless Steel (QPSS)
Qingdao Sincerely Steel
Rihong Stainless Co., Ltd.
Ruitian Steel
Samsung Precision Stainless Steel (Pinghu) Co., Ltd.
Sejung Sea & Air Co., Ltd.
Shainghai Fengye Industry Co., Ltd.
Shandong Huaye Stainless Steel Group Co., Ltd.
Shandong Mengyin Huaran Imp and Exp Co., Ltd.
Shandong Mingwei Stainless Steel Products Co., Ltd.
Shanghai Dongjing Import & Export Co.
Shanghai Ganglian E-Commerce Holdings Co., Ltd.
Shanghai Krupp Stainless (SKS)
Shanghai Metal Corporation
Shanghai Tankli Alloy Material Co., Ltd. L
Shanxi Taigang Stainless Steel Co., Ltd. (TISCO)
Shaoxing Andrew Metal Manufactured Co., Ltd.
Shaoxing Yuzhihang Import & Export Trade Co., Ltd.
Shenzhen Brilliant Sign Co., Ltd.
Shenzhen Wide International Trade Co., Ltd.
Sichuan Southwest Stainless Steel
Sichuan Tianhong Stainless Steel
Sino Base Metal Co., Ltd.
Suzhou Xinchen Precision Industrial Materials Co., Ltd.
Taiyuan Accu Point Technology, Co. Ltd.
Taiyuan Iron & Steel (TISCO)
Taiyuan Ridetaixing Precision Stainless Steel Incorporated Co., Ltd.
Taizhou Durable Hardware Co., Ltd
Tiancheng Stainless Steel Products
Tianjin Fulida Supply Co., Ltd.
Tianjin Hongji Stainless Steel Products Co. Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
Tiashan Steel
TISCO Stainless Steel (HK) Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Yieh Corp. Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhejiang Yongyin Metal Tech Co.
Zhengzhou Mingtai Industry Co., Ltd.
Zhenjiang Huaxin Import & Export
Zhenshi Group Eastern Special Steel Co., Ltd
Zun Hua City Transcend Ti-Gold
THE PEOPLE'S REPUBLIC OF CHINA: Wooden Cabinets and Vanities and Components Thereof, C-570-107 | 8/12/19-12/31/20
Anhui Swanch Cabinetry Co., Ltd.
Anhui Xinyuanda Cupboard Co., Ltd
Dalian Hualing Wood Co., Ltd.
Dalian Jiaye Wood products Co., Ltd.
Dalian Meisen Woodworking Co., Ltd.
Dandong Laroyal Cabinetry Co., Ltd.
Foremost Worldwide Co. Ltd.
Fujian Dushi Wooden Industry Co., Ltd.
Fujian Senyi Kitchen Cabinet Co., Ltd
Fuzhou CBM Import & Export Co., Ltd.
Fuzhou Minlian Wood Industry Co., Ltd.
Guangzhou Nuolande Import and Export Co., Ltd.
Hangzhou Hoco Kitchen & bath Products Co., Ltd.
Hangzhou Home Dee Sanitary Ware Co., Ltd.
Hangzhou Royo Import & Export Co., Ltd.
Hangzhou Entop Houseware Co., Ltd.
Heyond Cabinet Co., Ltd.
Honsoar New Building Material Co., Ltd
HS Furniture Industrial Co., Ltd.
Jiang Su Rongxin Wood Industry Co. Ltd
Jiang Su Rongxin Cabinets Ltd
Jiangsu Beichen Wood Co., Ltd.
Jiangsu Sunwell Cabinetry Co., Ltd.
Jiangsu Weisen Houseware Co., Ltd.
Jiangsu Xiangsheng Bedtime Furniture Co., Ltd.
KM Cabinetry Co., Limited
Kunshan Baiyulan Furniture Co., Ltd.
Linyi Bomei Furniture Co., Ltd
Linyi Bonn Flooring Manufacture Co., Ltd.
Linyi Kaipu Furniture Co., Ltd.
Morewood Cabinetry Co., Ltd.
Nantong Aershin Cabinets Co., Ltd.
Pizhou Ouyme Import & Export Trade Co., Ltd.
Qingdao Shousheng Industry Co., Ltd
Qufu Xinyu Furniture Co., Ltd
Rizhao Foremost Landbridge Wood Industries Co., Ltd.
Rizhao Foremost Woodwork Manufacturing Company Ltd.
Senke Manufacturing Company
Shandong Huanmei Wood Co., Ltd
Shandong Longsen Woods Co., Ltd.
Shanghai Beautystar Cabinetry Co., Ltd.
Shanghai Zifeng International Trading Co., Ltd
Sheen Lead International Trading (Shanghai) Co., Ltd.
Shenzhen Pengchengzhirong Trade Co., Ltd.
Shouguang Fushi Wood Co., Ltd
Shouguang Jinxiangyuan Home Furnishing Co., Ltd
Shouguang Sanyang Wood Industry Co., Ltd
Suzhou Siemo Wood Import & Export Co., Ltd.
Tech Forest Cabinetry Co., Ltd
The Ancientree Cabinet Co., Ltd.
Weifang Fuxing Wood Co., Ltd.
Weihai Jarlin Cabinetry Manufacture Co., Ltd.
Xiamen Adler Cabinetry Co., Ltd.
Xiamen Goldenhome Co., Ltd
Xuzhou Yihe Wood Co., Ltd.
Yichun Dongmeng Wood Co., Ltd
Yixing Pengjia Cabinetry Co., Ltd.
Zhangzhou OCA Furniture Co., Ltd.
Zhongshan KM Cabinetry Co., Ltd
Zhoushan For-strong Wood Co., Ltd.

Suspension Agreements

None.

⁵ Commerce inadvertently stated that we were initiating an antidumping duty administrative review of the antidumping duty order on certain frozen warmwater shrimp from Thailand produced and exported by certain companies for which the antidumping duty order was revoked in the initiation notice for this administrative review. Commerce is correcting that initiation notice here. See Initiation of Antidumping and Countervailing Duty Administrative Reviews, 86 FR 17124 (April 1, 2021). This Order was revoked with respect to subject merchandise produced and exported by Chanthaburi Frozen Food Co., Ltd.; Chanthaburi Seafoods Co., Ltd.; and Phatthana Seafood Co., Ltd. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 20, 2009). In addition, this Order was also revoked with respect to subject merchandise produced and exported by Phatthana Frozen Food Co., Ltd. and Sea Wealth Frozen Food Co., Ltd. See Certain Frozen Warmwater Shrimp from Thailand: Final Results of Antidumping Duty Changed Circumstances Review and Notice of Revocation in Part, 74 FR 52452 (October 13, 2009). Accordingly, we are initiating this review for these exporters only with respect to shrimp produced in Thailand by another entity.

⁶ In the initiation notice that published on July 10, 2020 (85 FR 41545) Commerce inadvertently misspelled the company name listed above. The correct spelling of the company is listed in this notice.

⁷ In past reviews, Commerce has treated these companies as a single entity. See, e.g., Certain Activated Carbon from the People's Republic of China: Final Results of Antidumping Duty Administrative Review, Final Determination of No Shipments, and Final Recission of Administrative Review, in Part; 2018-2019, 86 FR 10539 (February 22, 2021). We also received request for Jacobi Carbons, Inc., however, Jacobi Carbons, Inc. is a U.S. affiliate of Jacobi Carbons AB.

⁸ In the initiation notice that published on July 10, 2020 (85 FR 41545) Commerce inadvertently misspelled the company name listed above. The correct spelling of the company is listed in this notice.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁹ available at https://enforcement.trade.gov/frn/2013/1304frn/2013-08227.txt, prior to submitting factual information in this segment. Note that Commerce has temporarily modified certain of its requirements for serving documents containing business proprietary information, until further notice.¹⁰

⁹ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁰ See Temporary Rule Modifying AD/CVD Service Requirements Due to COVID-19, 85 FR 41363 (July 10, 2020).

Any party submitting factual information in an AD or CVD proceeding must certify to the accuracy and completeness of that information using the formats provided at the end of the Final Rule.¹¹ Commerce intends to reject factual submissions in any proceeding segments if the submitting party does not comply with applicable certification requirements.

¹¹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹² In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹² See 19 CFR 351.302.

These initiations and this notice are in accordance with section 751(a) of the Act (19 U.S.C. 1675(a)) and 19 CFR 351.221(c)(1)(i).

Dated: June 7, 2021.
James Maeder,
Deputy Assistant Secretary for Antidumping and Countervailing Duty Operations.

[FR Doc. 2021-12278 Filed 6-10-21; 8:45 am]

BILLING CODE 3510-DS-P